DEPARTMENT OF THE TREASURY

Submission for OMB Review; Comment Request

December 12, 2008.

The Department of the Treasury will submit the following public information collection requirement(s) to OMB for review and clearance under the Paperwork Reduction Act of 1995, Public Law 104-13 on or after the date of publication of this notice. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before January 20, 2009 to be assured of consideration.

Internal Revenue Service (IRS)

OMB Number: 1545-2106.

Type of Review: Extension.

Title: NOT-127516-08 (Notice 2008-58), Relief from Certain Low-Income Housing Credit Requirements Due to Severe Storms, Tornadoes, and Flooding in Iowa.

Description: The Internal Revenue Service is suspending certain requirements under § 42 of the Internal Revenue Code for low-income housing credit projects in the United States to provide emergency housing relief needed as a result of the devastation caused by severe storms, tornadoes, and flooding in Iowa beginning on May 25, 2008.

Respondents: Individuals or Households.

Estimated Total Burden Hours: 125 hours.

OMB Number: 1545-1950.

Type of Review: Extension.

Form: 8621-A.

Title: Return by a Shareholder Making Certain Late Elections To End Treatment as a Passive Foreign Investment Company.

Description: Form 8621-A is used by certain taxpayer/investors to request ending of their treatment as investing in a Passive Foreign Investment Company. New regulations are being written in support of the new products. The underlying law is in IRC sections 1297 and 1298.

Respondents: Individuals or Households.

Estimated Total Burden Hours: 43,622 hours.

OMB Number: 1545-1799.

Type of Review: Extension.

Title: Notice 2002-69, Interest Rates and Appropriate Foreign Loss Payment Patterns For Determining the Qualified Insurance Income of Certain Controlled Corporations under Section 954(f).

Description: This notice provides guidance on how to determine the foreign loss payment patterns of a foreign insurance company owned by U.S. shareholder for purposes of determining the amount of investment income earned by the insurance company that is not treated as Subpart F income under section 954(i).

Respondents: Businesses or other for-profits.

Estimated Total Burden Hours: 300 hours.

OMB Number: 1545-1657.

Type of Review: Extension.

Title: Revenue Procedure 99-32—Conforming Adjustments Subsequent to Section 482 Allocations.

Description: This revenue procedure prescribes the applicable procedures for the repatriation of cash by a United States taxpayer via an interest-bearing account receivable or payable in an amount corresponding to the amount allocated under section 482 from, or to a related person with respect to a controlled transaction.

Respondents: Businesses or other for-profits.

Estimated Total Burden Hours: 1,620 hours.

OMB Number: 1545-1487.

Type of Review: Extension.

Title: TD 8834 (final)—Treatment of Distributions to Foreign Persons Under Sections 367(e)(1) and 367(e)(2).

Description: Sections 367(e)(1) and 367(e)(2) provide for gain recognition on certain transfers to foreign persons under sections 355 and 332. Section 6038B(a) requires U.S. persons transferring property to foreign persons in exchanges described in sections 332 and 355 to furnish information regarding such transfers.

Respondents: Businesses or other for-profits.

Estimated Total Burden Hours: 2,471 hours.

Clearance Officer: Glenn P. Kirkland, (202) 622-3428, Internal Revenue Service, Room 6516, 1111 Constitution Avenue, NW., Washington, DC 20224.

OMB Reviewer: Nicholas A. Fraser, (202) 395-5887, Office of Management and Budget, Room 10235, New Executive Office Building, Washington, DC 20503.

Celina Elphage,
Treasury PRA Clearance Officer.

[FR Doc. E8-30204 Filed 12-18-08; 8:45 am]

BILLING CODE 4830-01-P